FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011642-008.

Title: East Coast United States/East Coast of South America Vessel Sharing Agreement.

Parties: A.P. Moller-Maersk A/S; N.V.; P&O Nedlloyd Limited; P&O Nedlloyd B.V.; Mercosul Line Navegacao e Logistica Ltda.; Alianca Navegacao e Logistica Ltda.; and Hamburg-Sud.

Synopsis: The modification removes Safmarine Container Lines, Compania Sud Americana de Vapores, and Companhia Libra de Navegacao as participants in the agreement. It also revises the remaining parties' space allocations and vessel contributions as a result to the foregoing withdrawals. The parties request expedited review.

Agreement No.: 011874.

Title: K-Line/Zim Space Charter Agreement.

Parties: Kawasaki Kisen Kaisha, Ltd. and Zim Israel Navigation Company Ltd.

Synopsis: The proposed agreement is a vessel-sharing agreement between the parties in the trade between ports in Oregon and Washington and the port of Vancouver, Canada, on the one hand, and ports in China, Japan, Korea, Singapore, Sri Lanka, Israel, Croatia, Slovenia, Italy, and Greece, on the other hand.

Agreement No.: 011875.

Title: Zim/Hapag-Lloyd USEC Slot Charter Agreement.

Parties: Hapag-Lloyd Container Linie GmbH and Zim Israel Navigation Company Ltd.

Synopsis: The proposed agreement is a vessel-sharing agreement between the parties in the trade between ports on the U.S. East Coast, on the one hand, and the ports of Halifax, Canada, and Kingston, Jamaica, on the other hand.

By Order of the Federal Maritime Commission.
Dated: April 2, 2004.
Karen V. Gregory,
Assistant Secretary.

[FR Doc. 04-7905 Filed 4-6-04; 8:45 am]

BILLING CODE 6730-01-P